DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of July 16, 2013 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
Hampden County, Massachusetts (All Jurisdications) | Docket No.: FEMA-B-1066
City of Chicopee | City Hall Annex, 274 Front Street, Fourth Floor, Chicopee, MA 01013.
City of Holyoke | Building Department, 20 Korean Veterans Plaza, Holyoke, MA 01040.
City of Springfield | Planning and Economic Development, 70 Tapley Street, Springfield, MA 01104.
City of Westfield | Municipal Building, 59 Court Street, Westfield, MA 01085.
Town of Agawam | Inspection Service Department, 1000 Suffield Street, Agawam, MA 01001.
Town of Blandford | Town Hall, 1 Russell Stage Road, Blandford, MA 01008.
Town of Brimfield | Town Hall, 21 Main Street, Brimfield, MA 01010.
Town of Chester | Town Hall, 15 Middlefield Road, Chester, MA 01011.
Town of East Longmeadow | Town Hall, 60 Center Square, East Longmeadow, MA 01028.
Town of Granville | Town Hall, 707 Main Road, Granville, MA 01034,
Town of Hampden | Town Hall, 625 Main Street, Hampden, MA 01036.
Town of Holland | Town Hall, 27 Sturbridge Road, Holland, MA 01521.
Town of Longmeadow | Town Hall, 20 Williams Street, Longmeadow, MA 01106.
Town of Ludlow | Town Hall, 488 Chapin Street, Third Floor, Room 305, Ludlow, MA 01056.
Town of Monson | Town Hall, 29 Thompson Street, Monson, MA 01057.
Town of Montgomery | Town Hall, 161 Main Road, Montgomery, MA 01085.
Town of Palmer | Town Hall, 4417 Main Street, Palmer, MA 01069.
Town of Russell | Town Hall, 65 Main Street, Russell, MA 01071.
Town of Southwick | Town Office, 454 College Highway, Southwick, MA 01077.
Town of Tolland | Town Hall, 241 West Granville Road, Tolland, MA 01034.
Town of Wales | Town Hall, 3 Hollow Road, Wales, MA 01081.
Town of West Springfield | Town Hall 26, Central Street, Suite 17, West Springfield, MA 01089.
Town of Wilbraham | Town Office, 240 Springfield Street, Wilbraham, MA 01095.
Warren County, Mississippi, and Incorporated Areas | Docket No.: FEMA-B-1241
City of Vicksburg | Vicksburg City Hall, 1009 Cherry Street, Vicksburg, MS 39183.
Unincorporated Areas of Warren County | Warren County Courthouse, 1009 Cherry Street, Vicksburg, MS 39183.

Catalog of Federal Domestic Assistance No. 97.022, “Flood Insurance.”)

Roy Wright,
Deputy Associate Administrator for Mitigation, Department of Homeland Security, Federal Emergency Management Agency.

[FR Doc. 2013-05185 Filed 3-5-13; 8:45 am]

BILLING CODE 9110-12-P